DEPARTMENT OF ENERGY

Federal Energy Regulatory Commission

18 CFR Part 33

[Docket No. RM05-34-002; Order No. 659-B]

Transactions Subject to FPA Section 203

AGENCY: Federal Energy Regulatory Commission, DOE.

ACTION: Final rule; correction.

SUMMARY: This document corrects an error in an order on rehearing that the Federal Energy Regulatory Commission published in the Federal Register on July 27, 2006. That action affirmed, with certain clarifications, its determinations in Commission Order Nos. 669 and 669-A.

EFFECTIVE DATE: August 28, 2006.

FOR FURTHER INFORMATION CONTACT: Roshini Thayaparan, Office of the General Counsel, Federal Energy Regulatory Commission at (202) 502-6867.

SUPPLEMENTARY INFORMATION: In FR Document E6-12047, published July 27, 2006 (71 FR 42579), make the following correction:

§ 33.2 [Corrected]

On page 42586, in the column 3, in § 33.2 Contents of application—general information requirements, in paragraph (j)(1) introductory text, the word “transactions” is corrected to read “transaction”.

Magalie R. Salas,
Secretary.

[FR Doc. E6-13106 Filed 8-9-06; 8:45 am]

BILLING CODE 6717-01-P